DEPARTMENT OF AGRICULTURE

Agricultural Marketing Service

7 CFR Part 1212

[Document Number AMS-FV-14-0097]

Honey Packers and Importers Research, Promotion, Consumer Education and Industry Information Order; Continuance Referendum

AGENCY: Agricultural Marketing Service, USDA.

ACTION: Referendum order.

SUMMARY: This document directs that a referendum be conducted among eligible first handlers and importers of honey or honey products to determine whether they favor continuance of the Honey Packers and Importers Research, Promotion, Consumer Education and Industry Information Order (Order).

DATES: This referendum will be conducted from April 13 through April 24, 2015. To vote in this referendum, first handlers and importers must have handled or imported 250,000 or more pounds of honey or honey products during the representative period from January 1 through December 31, 2014, paid assessments during the representative period, and must currently be a first handler or importer of honey or honey products subject to assessments. Ballots must be received by the close of business on April 24, 2015, to be counted.

ADDRESSES: Copies of the Order may be obtained from: Referendum Agent, Promotion and Economics Division (PED), Fruit and Vegetable Program (FVP), AMS, USDA, Stop 0244, Room 1406-S, 1400 Independence Avenue SW., Washington, DC 20250-0244, telephone: (202) 720-9915, facsimile: (202) 205-2800.

FOR FURTHER INFORMATION CONTACT: Patricia Petrella, Marketing Specialist, PED, FVP, AMS, USDA, STOP 0244, Room 1406-S, 1400 Independence Avenue SW., Washington, DC 20250-0244; telephone: (202) 720-9915; facsimile: (202) 205-2800; or electronic mail: patricia.petrella@ams.usda.gov.

SUPPLEMENTARY INFORMATION: Pursuant to the Commodity Promotion, Research and Information Act of 1996 (7 U.S.C. 7411-7425) (Act), it is hereby directed that a referendum be conducted to ascertain whether continuance of the Order is favored by eligible first handlers and importers of honey or honey products covered under the program. The Order is authorized under the Act.

The representative period for establishing voter eligibility for the referendum shall be the period from January 1, 2014, to December 31, 2014. First handlers and importers of 250,000 or more pounds of honey or honey products who have paid assessments during the representative period and are currently first handlers and importers subject to assessments are eligible to vote. Persons who received an exemption from assessments for the entire representative period are ineligible to vote. The referendum shall be conducted by mail ballot from April 13, 2015 through April 24, 2015.

Section 518 of the Act authorizes continuance referenda. Under section 1212.81 of the Order, the U.S. Department of Agriculture (Department) shall conduct a referendum every seven years, at the request of the Board established in the Order, or when 10 percent or more of the eligible voters petition the Secretary of Agriculture to hold a referendum to determine if persons subject to assessment favor continuance of the Order. The Department would continue the Order if continuance of the Order is favored by a majority of the first handlers and importers voting in the referendum and a majority of volume voted in the referendum.

In accordance with the Paperwork Reduction Act of 1995 (44 U.S.C. chapter 35), the referendum ballot has been approved by the Office of Management and Budget (OMB) and assigned OMB No. 0581-0093. It has been estimated that there are approximately 40 first handlers and 660 importers who will be eligible to vote in the referendum. It will take an average of 15 minutes for each voter to read the voting instructions and complete the referendum ballot.

Referendum Order

Patricia Petrella and Heather Pichelman, PED, FVP, AMS, USDA, Stop 0244, Room 1406-S, 1400 Independence Avenue SW., Washington, DC 20250-0244, are designated as the referendum agents to conduct this referendum. The referendum procedures at 7 CFR 1212.100 through 1212.108, which were issued pursuant to the Act, shall be used to conduct the referendum.

The referendum agents will mail the ballots to be cast in the referendum and voting instructions to all known first handlers and importers of 250,000 or more pounds of honey or honey products in the 2014 calendar year, prior to the first day of the voting period. Persons who are eligible first handlers or importers during the representative period and are first handlers or importers at the time of the referendum are eligible to vote. Persons who received an exemption from assessments during the entire representative period are ineligible to vote. Any eligible first handler or importer who does not receive a ballot should contact a referendum agent no later than one week before the end of the voting period. Ballots must be received by a referendum agent, not later than close of business 4:30 p.m. Eastern time, April 24, 2015, in order to be counted.

List of Subjects in 7 CFR Part 1212

Administrative practice and procedure, Advertising, Consumer information, Honey Packers and Importer promotion, Marketing agreements, Reporting and recordkeeping requirements.

Authority: 7 U.S.C. 7411-7425 and 7 U.S.C. 7401.

Dated: February 6, 2015.
Rex A. Barnes,
Associate Administrator.

[FR Doc. 2015-02901 Filed 2-11-15; 8:45 am]

BILLING CODE 3410-02-P